DEPARTMENT OF DEFENSE

Department of the Army

Availability for Non-Exclusive, Exclusive, or Partially Exclusive Licensing of U.S. Patent Concerning Monoclonal Antibodies to Cholesteral and Methods

AGENCY: U.S. Army Medical Research and Materiel Command, DoD.

ACTION: Notice.

SUMMARY: In accordance with 37 CFR 404.6, announcement is made of the availability for licensing of U.S. Patent 4,885,256 entitled “Monoclonal Antibodies to Cholesteral and Methods” issued December 5, 1989. This patent has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: Monoclonal antibodies which demonstrate specific reactivity to cholesterol and methods for the detection of high levels of cholesterol by contacting biological specimens containing cholesterol with the monoclonal antibodies and measuring the formation of antigen-antibody complexes by immunosorbent assay.

Luz D. Ortiz,
Army Federal Register Liaison Officer.

[FR Doc. 01-18008 Filed 7-18-01; 8:45 am]

BILLING CODE 3710-08-M